DEPARTMENT OF TRANSPORTATION

Surface Transportation Board

[STB Docket No. MCF 21051] ¹

Hotard Coaches, Inc. and Calco Travel, Inc.—Corporate Family Transaction

Hotard Coaches, Inc. (Hotard), a carrier, and Calco Travel, Inc. (Calco), a carrier, both wholly owned subsidiaries of All Aboard America! Holdings, Inc. (AHI), a noncarrier, have filed a verified notice of exemption under the Board's class exemption procedure at 49 CFR 1182.9.² The exempt transaction involves the merger of Calco with and into Hotard, with Hotard being the only surviving corporation. Calco and Hotard are jointly managed with existing operations in Louisiana and Mississippi.³

¹ Originally filed under Docket No. FD 35693, this notice has been redocketed as Docket No. MCF 21051.

² The Board exempted intra-corporate family transactions of motor carriers of passengers that do not result in significant operational changes, adverse changes in service levels, or a change in the competitive balance with carriers outside the corporate family in Class Exemption for Motor Passenger Intra-Corporate Family Transactions, FD 33285 (STB served Feb. 18, 2000).

³ AHI, Celerity AHI Holdings SPV, LLC, and Celerity Partners IV, LLC received tentative authorization from the Board to acquire control of Calco, Hotard, and Industrial Bus Lines, Inc. in Celerity Partners IV, LLC—Control—Calco Travel, Inc., MCF 21044 (STB served May 11, 2012).

The transaction is intended to simplify the corporate structure of the corporate family by consolidating all of the assets and liabilities of Hotard and Calco into a single surviving entity. Hotard and Calco state that the elimination of Calco as a separate corporate entity will streamline the corporate structure and management, reduce administrative expenses, and improve the overall efficiency of Hotard.

This is a transaction within a corporate family of the type specifically exempted from prior review and approval under 49 CFR 1182.9. Hotard and Calco state that the transaction will not result in any change in service levels, significant operational changes, or any change in competitive balance with carriers outside the corporate family. Hotard and Calco also state that (1) they will consummate the proposed transaction through an Agreement and Plan of Merger approved by the Board of Directors of each party in accordance with Louisiana law, and (2) the transaction will not have an adverse impact on the employees of either party to the subject transaction.

The transaction is scheduled to be consummated on or after January 1, 2013.

If the verified notice contains false or misleading information, the Board shall summarily revoke the exemption and require divestiture. Petitions to revoke the exemption under 49 U.S.C. 13541(d) may be filed at any time. See 49 CFR 1182.9(c).

An original and 10 copies of all pleadings, referring to Docket No. MCF 21051, must be filed with the Surface Transportation Board, 395 E Street SW., Washington, DC 20423-0001. In addition, a copy of each pleading must be served on Daniel A. Ranson, Gaudry, Ranson, Higgins & Gremillion, LLC, 401 Whitney Ave., Suite 500, Gretna, LA 70056.

Board decisions and notices are available on our Web site at WWW.STB.DOT.GOV.

By the Board.
Decided: December 26, 2012.
Rachel D. Campbell,
Director, Office of Proceedings.
Jeffrey Herzig,
Clearance Clerk.

[FR Doc. 2012-31414 Filed 12-28-12; 8:45 am]

BILLING CODE 4915-01-P